DEPARTMENT OF COMMERCE

Minority Business Development Agency

[Docket No. 000724217-3238-06]

Solicitation of Applications for the Minority Business Development Center (MBDC) Program

AGENCY: Minority Business Development Agency.

ACTION: Notice.

SUMMARY: The Minority Business Development Agency is revising the announcement soliciting competitive applications to operate its Minority Business Development Center (MBDC) Program published on Friday, August 29, 2003 (68 FR 51965). The original solicitation is amended to (1) clarify that there are only three basic areas under the work requirements, and (2) update the computer requirements under the headings Network Design, Desktop Workstations, Maintenance and Security, and Time for Compliance.

DATES: The closing date for applications for each MBDC project is October 10, 2003. Anticipated time for processing of applications is one hundred twenty (120) days from the date of the publication of this Notice.

MBDA anticipates that awards for the MBDC program will be made with a start date of January 1, 2004. Completed applications for the MBDC program must be (1) mailed (USPS postmark) to the address below; or (2) received by MBDA no later than 5 p.m. Eastern Daylight Time. Applications postmarked later than the closing date or received after the closing date and time will not be considered.

ADDRESSES: Applicants must submit one signed original plus two (2) copies of the application. Completed application packages must be submitted to: Office of Business Development, Minority Business Development Center Program Office, Office of Executive Secretariat, HCHB, Room 5063, Minority Business Development Agency, U.S. Department of Commerce, 14th Street and Constitution Avenue, NW., Washington, DC 20230.

If the application is hand-delivered by the applicant or his/her representative, one signed original plus two (2) copies of the application must be delivered to Room 1874, which is located at Entrance #10, 15th Street, NW., between Pennsylvania and Constitution Avenues.

FOR FURTHER INFORMATION CONTACT: For further information, contact the MBDA National Enterprise Center (NEC) for the geographic service area in which the project will be located or visit MBDA's Minority Business Internet Portal (MBDA Portal) at http://www.mbda.gov.

SUPPLEMENTARY INFORMATION: The Minority Business Development Agency revises its announcement soliciting competitive applications to operate its Minority Business Development Center (MBDC) Program published on Friday, August 29, 2003 (68 FR 51965) to provide clarification concerning the number of basic areas under the work requirements, and to amend computer requirements for MBDC.

On page 51968, a typographical error appears under the heading “Work Requirements”. The notice incorrectly states that the MBDC is required to perform work in four (4) basic areas. This notice clarifies that there are only three (3) basic areas where the NABDC must perform work: Market Development, Client Services, and Operational Quality.

Also, on pages 51970 through 51972 of the Federal Register notice, the Computer Requirements for the MBDC Program have been amended to reflect the following changes:

1. Under the heading Network Design:

• The term “server-based local area network” has been substituted for “Client Server” for clarity;

• The requirement for a service pack 3 or greater server has been deleted;

• The requirement for a Domain Controller server has been deleted;

• Grant recipients may use a Pentium IV class CPU, instead of a Pentium IV CPU; and

• The requirement for a trusted relationship between the servers of MBDA's and the award recipient's has been deleted.

2. Under the heading Desktop Workstations:

• Grant recipients may use a Pentium IV class CPU, instead of a Pentium IV CPU;

• The option of XP Professional software has been added to Operating systems;

• A requirement for a software or hardware-based Firewall has been added to the antivirus protection software; and

• The requirement that 50% of all employee workstations to be fully operational during business hours, has been deleted.

3. Under the heading Maintenance and Security:

• The requirement for a trusted relationship for any security component has been deleted.

4.Under the heading Time for Compliance:

• The requirement for the contact information for the ISP Technical Contact has been deleted.

The amended Computer Requirements reads as follows:

Computer Requirements

MBDA requires that all award recipients meet certain requirements related to the acquisition, installation, configuration, maintenance and security of information technology (IT) assets in order to ensure seamless and productive interface between and among all grant recipients, minority-owned businesses, the MBDA Federal IT system and the public. These required assets and their configuration are hereinafter referred to as the “enterprise.” The basic components of the enterprise are the desktop workstations, the server, local area network (LAN) components and a connection to the Internet.

At a minimum, each grantee shall provide one (1) desktop computer for the exclusive use of each employee delivering minority business assistance to the public under an award from MBDA. All desktop computers shall be inter-connected with a Server computer using an Ethernet protocol enabling communication with all workstations on the network. The Server shall have a constant, high-speed Internet connection, active during all business hours, preferably through a DSL or cable modem connection. The recipient shall ensure that each of his/her employees, to include management, administrative personnel, contractors, full-time, part-time, and non-paid (volunteer) staff have a unique electronic mail (email) address available to the public. Each grantee shall design, develop and maintain, in accordance with the computer requirements, a presence on the Internet's World Wide Web and shall maintain appropriate computer and network security precautions during all periods of funding by MBDA. All IT requirements, as described herein, shall be met within thirty (30) calendar days after the award.

1. Network Design: At all locations where services are delivered to the eligible public as defined by Executive Order 11625, the recipient shall operate a server-based local area network (LAN) enabling each staff person delivering services to the eligible public exclusive access to a personal computer workstation during all business hours. MBDA shall, from time to time, designate certain configurations of the enterprise hardware and software to meet interface requirements.

Currently, MBDA recommends servers using an operating system that is fully compatible with Microsoft Windows 2000. Any server providing principal service to the desktops shall contain 18 or more gigabytes (GB) of hard drive space using two or more 9 GB+ disks configured appropriately to ensure data retention should one disk fail. At least one (1) Pentium IV class central processing unit (CPU), shall be used in the DC server or any other server providing principal service to the desktops. Web servers, mail servers and/or servers maintained by a third party such as an Internet Service Provider (ISP) shall meet the minimum server specifications as stated herein.

2. Desktop Workstations: All desktop systems shall not be more than two (2) calendar years old at time of award and shall contain a Pentium IV class central processing unit (CPU), operating at speeds not less than 2+ Gigahertz (GHz). Each desktop system shall contain a hard drive with a storage capacity of at least twenty (20) GB and 512 Megabytes of RAM. All desktop systems shall have installed an operating system fully compatible with Microsoft Windows 2000 or XP Professional, with MS Office 2000 Professional or higher, Microsoft Internet Explorer 6.x , and a software or hardware-based Firewall. Additionally, at least one workstation have installed both a full page scanner, along with software fully compatible with Adobe Acrobat software for the production of electronic document submissions.

3. Maintenance and Security: A network map (“as-built”) reflecting adherence to the computer and networking requirements set forth herein shall be maintained by the recipient for review by MBDA at any time. Each recipient shall designate and train one administrative person competent in the operation of an operations system fully compatible with Windows 2000 network and local area network (LAN) technology as described herein. From time to time, MBDA may require certain software be loaded on servers and desktops. In any given year, the cost of this additional software may be $200.00 per workstation and $500.00 per server, such additional cost may be borne by MBDA. Every employee of the MBDC shall be assigned a unique username and password to access the system. Every employee shall be required to sign a written computer security agreement. (A suggested format for the computer security agreement will be provided at the time of award.) Every manager, employee, and contractor and any other person given access to the computer system shall sign the security agreement and an original copy of the signed agreement shall be kept in the MBDC's files. A photocopy of the agreement shall be sent by fax to MBDA at: (202) 482-2693 no later than thirty (30) days after receipt of the award. All subsequent new hires and associations requiring access to the MBDC or MBDA systems shall read, understand and sign the security agreement prior to issuance of a password. No employee shall have access to the MBDA system without a signed security agreement on file at MBDA.

4. Web site: Each recipient shall create and maintain a public Web site using a unique address (e.g., http://www.center-name.com). The first page (Index page) of the Web site shall clearly identify the recipient as a Minority Business Development Center funded by the U.S. Department of Commerce's Minority Business Development Agency.

The Index page of the Web site shall load on software fully compatible with Windows Internet Explorer 6.x browser software using a normal home computer with 56Kb/s analog phone line connection in less than ten (10) seconds. The Web site shall contain the names of all managers and employees, the business and mailing address of the Center, business phone and fax numbers and email addresses of the MBDC and employees, a statement referencing the services available at the MBDC, the hours under which the MBDC operates and a link to the MBDA homepage (http://www.mbda.gov). For purpose of electronically directing clients to the appropriate MBDC staff, the Web site shall also contain a short biographical statement for each employee of the MBDC including management, contractors, part-time, full-time, and non-paid (volunteer) personnel, providing services directly to the eligible public under an award from MBDA. This biographical statement shall contain: the full name of the employee, and a brief description of the expertise of the employee to include academic degrees, certifications and any other pertinent information with respect to that employee's qualifications to deliver minority business assistance services to eligible members of the public.

No third party advertising of commercial goods and services shall be permitted on the site. All links from the site to other than federal, state or local government agencies and non-profit educational institutions must be requested, in advance and in writing, through the Chief Information Officer, MBDA Office of Information Technology Services to the Grants Office for written approval. Such approval shall not be unreasonably withheld but approval is subject to withdrawal if MBDA determines the linked site unsuitable. No employee of the MBDC, nor any other person, shall use the MBDC Web site for any purpose other than that approved under the terms of the agreement between the recipient and MBDA. Every page of the Web site shall comply with Federal standards of the American With Disabilities Act, Section 508, and be reviewed by the recipient for accuracy, current, and appropriateness every three (3) months. Appropriate privacy notices and handicapped accessibility will be predominately featured. From time to time, MBDA shall audit the recipient's Web site and recommend changes in accordance with the guidelines set forth herein.

5. Time for Compliance: Within thirty (30) days after receipt of the award, the recipient shall report via email to the Chief Information Officer, MBDA Office of Information Technology Services and the MBDA Office of Business Development that he/she has complied with all technical requirements as specified herein. Within thirty (30) days after receipt of the award, the recipient shall report the name, contact telephone number and email address of the Project Director, Network or System Administrator.

6. Performance System: All required performance reporting to MBDA shall be conducted via the Internet using the Performance system to be found at a secure Web site (http://www.mbda.gov). Within thirty (30) days after the receipt of award, each MBDC business consultant and/or anyone providing business assistance to the public under the award shall have satisfactorily completed the Performance System Training Course (PSTC). This course is available on-line from the Performance Web site (http://www.mbda.gov). Only those persons giving direct assistance to the eligible public shall be given passwords and access to enter Performance data into the system. Only trained staff shall enter data into the Performance system. There shall be no “sharing” of passwords on the Performance system. MBDA encourages input of information on a daily basis.

7. Data Integrity: The recipient shall take the necessary steps to ensure that all data entered into MBDA systems, and systems operated by the recipient in support of the award, or by any employee of the recipient is accurate and timely.

Dated: September 24, 2003.
Ronald N. Langston,
National Director, Minority Business Development Agency.

[FR Doc. 03-24636 Filed 9-29-03; 8:45 am]

BILLING CODE 3510-21-P